DEPARTMENT OF COMMERCE

Foreign-Trade Zones Board

Docket 8-2006

Foreign-Trade Zone 202 - Los Angeles, CA, Application for Subzone, Sharp Electronics Corporation, Correction

The Federal Register notice (71 FR 12676, 3/13/2006) describing the application by the Board of Harbor Commissioners of the City of Los Angeles, grantee of FTZ 202, requesting special-purpose subzone status for the Sharp Electronics Corporation (Sharp) distribution facility, in Huntington Beach, California, is corrected as follows:

Paragraph 2 should read “The Sharp facility (539,000 sq. ft. of enclosed space on 23.4 acres) is located at 5901 Bolsa Avenue, Huntington Beach, California.”

Dated: March 20, 2006.
Dennis Puccinelli,
Executive Secretary.

[FR Doc. E6-4310 Filed 3-23-06; 8:45 am]

BILLING CODE 3510-DS-S